SMALL BUSINESS ADMINISTRATION

Information Collection; Subcontractor Past Performance Pilot Program

AGENCY: Small Business Administration.

ACTION: 60-Day notice and request for comments.

SUMMARY: The Small Business Administration (SBA) intends to request approval for the collection of information described below from the Office of Management and Budget (OMB). The Paperwork Reduction Act (PRA) of 1995, requires federal agencies to publish a notice in the Federal Register concerning each proposed collection of information before submission to OMB, and to allow 60 days for public comment in response to the notice. This notice complies with that requirement.

DATES: Submit comments on or before: June 19, 2018.

ADDRESSES: Send all comments or request for a copy of the proposed forms to Donna Fudge, Office of Government Contracting and Business Development, 409 3rd Street SW, Washington, DC 20416.

FOR FURTHER INFORMATION CONTACT: Donna Fudge, Procurement Analyst, 202-205-6363, donna.fudge@sba.gov, or Curtis B. Rich, Management Analyst, 202-205-7030, curtis.rich@sba.gov.

SUPPLEMENTARY INFORMATION:

A. Background

The National Defense Authorization Act for Fiscal year 2017 (Pub. L. 114-328), Section 1822, added paragraph 8(d)(17) to the Small Business Act, 15 U.S.C. 637(d)(17), to provide that SBA shall implement a pilot program to establish past performance ratings for small business subcontractors. Under this program, a small business concern without a past performance rating as a prime contractor in the Past Performance Information Retrieval System (PPIRS) may request a past performance rating in the Contractor Performance Assessment Reporting System (CPARS), if the small business is a first tier subcontractor under a covered Federal Government contract requiring a subcontracting plan in accordance with FAR 19.702(a). Ratings of subcontractor performance can be requested on subcontracts that exceed the simplified acquisition threshold, or subcontracts for architecture-engineering services valued at $35,000 or more as provided in FAR 42.1502.

Past performance information is one indicator of an offeror's ability to successfully perform the contract and is often considered by agencies when making contract awards. Allowing small business concerns performing as first tier subcontractors to voluntarily request a past performance evaluation, in the same system used by the Federal Government to monitor or record contractor past performance for prime contract awards, provides an enhanced opportunity for more small businesses to fairly compete for Federal Government contracting opportunities.

B. Summary of Pilot and Information to be Collected

(1) Application—In order to obtain a past performance rating, the small business concern will submit a request using SBA Form 2465. The information to be provided includes, but is not limited to, Subcontractor name and DUNS + 4 Number; subcontract number; completion date; total dollar value, and suggested rating for each factor. The small business concern will complete the applicable portion of the form and submit it, electronically, along with written evidence of the past performance factors to the appropriate official to the SPPP@sba.gov mailbox within 270 calendar days after completing the work for which a past performance rating is sought or within 180 calendar days after the prime contractor completes work on the contract, whichever is earlier.

(2) Determination—The appropriate official shall submit the small business concern's application electronically to the requiring agency's Office of Small Business Utilization (OSDBU) and the prime contractor for the covered contract for review. The Prime Contractor and OSDBU shall, within 30 calendar days after receipt of the application, electronically submit to the appropriate official a response regarding the application.

(3) Agreement on Rating—If the OSDBU and the prime contractor agree on a past performance rating, or if either the OSDBU or prime contractor fail to respond and the responding person agrees with the rating of the applicant small business concern, the appropriate official shall enter the agreed-upon past performance rating in CPARS.

(4) Disagreement on Rating—If the OSDBU and the prime contractor fail to respond within 30 calendar days or if they disagree about the rating, or if either the OSDBU or prime contractor fail to respond and the responding person disagrees with the applicant small business concern's suggested rating, the OSDBU or the prime contractor shall submit a notice contesting the application to the appropriate official.

(5) Procedure for Rating—The appropriate official, within 14 calendar days after receipt of a notice contesting the applicant small business concern suggested ratings, shall submit the notice to the applicant small business concern. The concern may submit comments, rebuttals, or additional information relating to its past performance within 14 calendar days after receipt of the notice. The appropriate official shall enter a rating in CPARS that is neither favorable nor unfavorable, together with the concern's initial application, OSDBU and prime contractor responses, and any additional information provided by the applicant concern. A copy of the information submitted shall be provided to the contracting officer (or designee of such officer) for the covered contract.

(6) Use of Information—A small business subcontractor may use a past performance rating in CPARS to establish its past performance for a potential prime contract award.

(7) Duration—The subcontractor past performance pilot program shall terminate three (3) years after the date on which the first applicant small business concern receives a past performance rating for performance as a first-tier subcontractor.

C. Title of Collection, Description of Respondents and Estimated Burdens

Title: Subcontractor Past Performance Pilot Program.

OMB Control Number: [New Collection].

Form Number: SBA Form 2465.

(1) Description of Respondents: First Tier Subcontractors on covered federal contracts that are eligible to request a Past Performance Rating to be entered in CPARS.

Estimated Number of Respondents: 2520.

Frequency of Responses per Respondent: Once per year.

Total Estimated Annual Responses: 2520.

Estimated Burden Hours per Response: 1.

Total Estimated Burden Hours: 2520.

(2.) Description of Respondents: Prime contractors responding to appropriate official's request to complete rating of subcontractor's past performance.

Estimated Number of Respondents: 840.

Frequency of Responses per Respondent: Once per year.

Total Estimated Annual Responses: 2520.

Estimated Burden Hours per Response: .5.

Total Estimated Burden Hours: 1260.

D. Solicitation of Public Comments

SBA is requesting comments on this proposed collection of information, including: (1) Whether there are ways to enhance the quality, utility, and clarity of the information; (2) whether the burden estimates are accurate and based on valid assumptions and methodology; and (3) whether there are ways to minimize the burden of the collection of information on those who are to respond, including through the use of automated techniques or other forms of information technology.

Curtis Rich,
Management Analyst.

[FR Doc. 2018-08330 Filed 4-19-18; 8:45 am]

BILLING CODE 8025-01-P